DEPARTMENT OF THE INTERIOR

National Park Service

Notice of Intent to Repatriate a Cultural Item: Neville Public Museum of Brown County, Green Bay, WI

AGENCY: National Park Service, Interior.

ACTION: Notice.

Notice is here given in accordance with the Native American Graves Protection and Repatriation Act (NAGPRA), 25 U.S.C. 3005, of the intent to repatriate a cultural item in the possession of the Neville Public Museum of Brown County, Green Bay, WI, that meets the definition of “objects of cultural patrimony” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The cultural item is a wampum belt, 30 inches long and 2 inches wide, composed of white beads strung on hemp with four intersecting rows of black beads.

Neville Public Museum of Brown County professional staff consulted with the representatives of the Oneida Tribe of Indians of Wisconsin and Stockbridge Munsee Community, Wisconsin.

In 1923, the cultural item was purchased by Arthur Neville, Director of the Green Bay City Museum. The Green Bay City Museum became the Neville Public Museum of Brown County in 1927. According to museum documentation, the wampum belt was purchased from Phoebe Quinney for $10.00. Mrs. Quinney was the widow of Osceola Quinney, Sachem of the Stockbridge Munsee Community, Wisconsin. Mr. Quinney had inherited the title and wampum belt from his father, John Quinney.

The Neville Public Museum of Brown County has determined that the wampum belt is an object of cultural patrimony that has ongoing historical, traditional, or cultural importance central to the Stockbridge Munsee Community, Wisconsin. Cultural affiliation with the Stockbridge Munsee Community, Wisconsin, and the museum's determination that the wampum belt is an object of cultural patrimony, are based on museum documentation and oral history, as well as consultation evidence presented by representatives of the Stockbridge Munsee Community, Wisconsin that indicates that no individual had or has the right to alienate a wampum belt.

Officials of the Neville Public Museum of Brown County have determined that, pursuant to 25 U.S.C. 3001 (3)(D), the one cultural item described above has ongoing historical, traditional, or cultural importance central to the Native American group or culture itself, rather than property owned by an individual. Officials of the Neville Public Museum of Brown County also have determined that, pursuant to 25 U.S.C. 3001 (2), there is a relationship of shared group identity that can be reasonably traced between the object of cultural patrimony and the Stockbridge Munsee Community, Wisconsin.

Representatives of any other Indian tribe that believes itself to be culturally affiliated with the one object of cultural patrimony should contact Eugene Umberger, Director, Neville Public Museum of Brown County, 210 Museum Place, Green Bay, WI 54303, telephone (920) 448-4460, before September 26, 2005. Repatriation of the object of cultural patrimony to the Stockbridge Munsee Community, Wisconsin may proceed after that date if no additional claimants come forward.

Neville Public Museum of Brown County is responsible for notifying the Oneida Tribe of Indians of Wisconsin and Stockbridge Munsee Community, Wisconsin that this notice has been published.

Dated: July 26, 2005.
Sherry Hutt,
Manager, National NAGPRA Program.

[FR Doc. 05-16882 Filed 8-24-05; 8:45 am]

BILLING CODE 4312-50-S